NATIONAL ARCHIVES AND RECORDS ADMINISTRATION

Advisory Committee on Presidential Library-Foundation Partnerships

AGENCY: National Archives and Records Administration.

ACTION: Notice of meeting.

SUMMARY: In accordance with the Federal Advisory Committee Act, as amended (5 U.S.C. Appendix 2), the National Archives and Records Administration (NARA) announces a meeting of the Advisory Committee on Presidential Library-Foundation Partnerships. The meeting will be held to discuss the transformation issues at the National Archives as they relate to Presidential Libraries, the Electionic Record Archives (ERA), the National Declassification Center and priorities for declassification, and recommendations from the Advisory Committee on standing or ad hoc subcommittees, including an update on the development of MOUs.

DATES: The meeting will be held on November 10, 2010 from 9 a.m. to 12 noon.

ADDRESSES: The National Archives Building, 700 Pennsylvania Avenue, NW., Washington, DC 20408.

FOR FURTHER INFORMATION CONTACT: Sharon Fawcett, Assistant Archivist for Presidential Libraries, at the National Archives and Records Administration, 8601 Adelphi Road, College Park, Maryland 20740, telephone number (301) 837-3250. Contact the Presidential Libraries staff at Kathleen.mead@nara.gov.

SUPPLEMENTARY INFORMATION: The meeting will be open to the public. No visitor parking is available at the building. Area commercial parking garages are available where hourly rates apply.

Dated: October 7, 2010.
Mary Ann Hadyka,
Committee Management Officer.

[FR Doc. 2010-25991 Filed 10-13-10; 8:45 am]

BILLING CODE 7515-01-P